DEPARTMENT OF TRANSPORTATION

Pipeline and Hazardous Materials Safety Administration

Hazardous Materials: Notice of Applications for New Special Permits

AGENCY: Pipeline and Hazardous Materials Safety Administration (PHMSA), DOT.

ACTION: List of applications for special permits.

SUMMARY: In accordance with the procedures governing the application for, and the processing of, special permits from the Department of Transportation's Hazardous Material Regulations, notice is hereby given that the Office of Hazardous Materials Safety has received the application described herein.

DATES: Comments must be received on or before December 15, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Each mode of transportation for which a particular special permit is requested is indicated by a number in the “Nature of Application” portion of the table below as follows: 1—Motor vehicle, 2—Rail freight, 3—Cargo vessel, 4—Cargo aircraft only, 5—Passenger-carrying aircraft.

Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on November 3, 2023.
Donald P. Burger,
Chief, General Approvals and Permits Branch.

Special Permits Data
Application number | Applicant | Regulation(s) affected | Nature of the special permits thereof
21656-N | Rawhide Leasing Company LLC | 173.302a(b) | To authorize the requalification of 3A, 3AA, 3AX, 3AAx and 3T cylinders by proof pressure testing in accordance with CGA Pamphlet C-1 in lieu of hydrostatic or direct expansion testing. (modes 1, 3).
21658-N | Veolia ES Technical Solutions LLC | 173.21(b), 173.51, 173.54(a), 173.56(b) | To authorize the one-time, one-way transportation in commerce of unapproved explosives for the purpose of disposal. (mode 1).
21659-N | Siller Helicopters, Inc | 172.400, 172.101, 172.200, 172.204(c)(3), 172.204(c)(3), 172.300, 173.27(b)(2), 175.30(a)(1) | To authorize the transportation in commerce of certain hazardous materials by 14 CFR Part 133 cargo-only aircraft (rotorcraft external load operations) transporting hazardous materials attached to or suspended from the aircraft, and Part 135, as applicable, in remote areas of the US only, without being subject to certain hazard communication requirements, quantity limitations and certain loading and stowage requirements. (mode 4).
21661-N | Thermavant Technologies, LLC | 173.301(f), 173.302a(a)(1), 173.304a(a)(2) | To authorize the transportation in commerce of certain non-DOT specification containers containing anhydrous ammonia for use in specialty cooling applications in the DoD and Aerospace industry. (mode 1).
21662-N | Tank Traders Missouri | 180.215 | To authorize the transportation in commerce of propane cylinders where the visual inspection record is created in an alternative manner.
21663-N | Orbion Space Technology, Inc. | 173.301(f)(1), 173.302a | To authorize the transportation in commerce of non-DOT specification cylinders intended for use in spacecraft. (mode 1).
21664-N | Champion Container Corporation | 173.158(f)(3) | To authorize the transportation in commerce of nitric acid in combination packaging where the inner packagings are not further individually overpacked in tightly closed metal packagings. (modes 1, 2, 3).
21665-N | Weilert Enterprises, Inc | 178.935(c)(1) | To authorize the manufacture, mark, sale, and use of UN 50D large packagings with a volumetric capacity exceeding 3000 L.
21666-N | CMC Materials, Inc | 173.22(a)(2), 173.24(c)(1)(i) | To authorize the transportation in commerce of certain oxidizing liquids in alternative packaging. (mode 1).
21667-N | Hanwha Cimarron LLC | 173.302(a) | To authorize the manufacture, mark, sale, and use of non-DOT specification fiber reinforced composite cylinders with non-load sharing plastic liners in compliance with UN/ISO11515: 2013, Type 4. (modes 1, 2, 3).

[FR Doc. 2023-25168 Filed 11-14-23; 8:45 am]

BILLING CODE P